DEPARTMENT OF HEALTH AND HUMAN SERVICES

Centers for Disease Control and Prevention

[Program Announcement 04078]

Providing Technical Assistance Support for the Rapid Strengthening of Blood Transfusion Services in Selected Countries in Africa and the Caribbean Under the President's Emergency Plan for AIDS Relief; Amendment

A notice announcing the availability of fiscal year (FY) 2004 funds for cooperative agreements for Providing Technical Assistance Support for the Rapid Strengthening of Blood Transfusion Services in Selected Countries in Africa and the Caribbean Under the President's Emergency Plan for AIDS Relief was published in the Federal Register on December 1, 2003, volume 68, number 230, pages 67181-67186. The notice is amended as follows:

On page 67183, in the first column under “III.1. Eligible applicants,” please include a fifth bullet allowing “For profit organizations” to apply.

On page 67185, in the first column under “IV.5. Funding restrictions,” please incorporate the following as an additional restriction:

In accordance with CFR 45 74.81, no HHS funds may be paid as profit to any recipient even if the recipient is a commercial organization. Profit is any amount in excess of allowable direct and indirect costs.

Dated: February 4, 2004.
Sandra R. Manning,
Director, Procurement and Grants Office, Centers for Disease Control and Prevention.

[FR Doc. 04-2778 Filed 2-9-04; 8:45 am]

BILLING CODE 4163-18-P